DEPARTMENT OF COMMERCE

Foreign-Trade Zones Board

[B-58-2023]

Foreign-Trade Zone (FTZ) 57; Authorization of Production Activity; M&M Labs LLC; (Packaging of Nutritional Supplements and Skin Care Products); Mill Spring, North Carolina

On November 15, 2023, M&M Labs LLC submitted a notification of proposed production activity to the FTZ Board for its facility within FTZ 57 in Mill Spring, North Carolina.

The notification was processed in accordance with the regulations of the FTZ Board (15 CFR part 400), including notice in the Federal Register inviting public comment (88 FR 81042, November 21, 2023). On March 14, 2024, the applicant was notified of the FTZ Board's decision that no further review of the activity is warranted at this time. The production activity described in the notification was authorized, subject to the FTZ Act and the FTZ Board's regulations, including section 400.14.

Dated: March 14, 2024.
Elizabeth Whiteman,
Executive Secretary.

[FR Doc. 2024-05800 Filed 3-19-24; 8:45 am]

BILLING CODE 3510-DS-P